NATIONAL ARCHIVES AND RECORDS ADMINISTRATION

[NARA-2019-001]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when agencies no longer need them for current Government business. The records schedules authorize agencies to preserve records of continuing value in the National Archives of the United States and to destroy, after a specified period, records lacking administrative, legal, research, or other value. NARA publishes notice in the Federal Register for records schedules in which agencies propose to destroy records they no longer need to conduct agency business. NARA invites public comments on such records schedules.

DATES: NARA must receive requests for copies in writing by November 9, 2018. Once NARA finishes appraising the records, we will send you a copy of the schedule you requested. We usually prepare appraisal memoranda that contain additional information concerning the records covered by a proposed schedule. You may also request these. If you do, we will also provide them once we have completed the appraisal. You have 30 days after we send to you these requested documents in which to submit comments.

ADDRESSES: You may request a copy of any records schedule identified in this notice by contacting Records Appraisal and Agency Assistance (ACRA) using one of the following means:

Mail: NARA (ACRA); 8601 Adelphi Road; College Park, MD 20740-6001.

Email: request.schedule@nara.gov.

FAX: 301-837-3698.

You must cite the control number, which appears in parentheses after the name of the agency that submitted the schedule, and a mailing address. If you would like an appraisal report, please include that in your request.

FOR FURTHER INFORMATION CONTACT: Margaret Hawkins, Director, by mail at Records Appraisal and Agency Assistance (ACRA); National Archives and Records Administration; 8601 Adelphi Road; College Park, MD 20740-6001, by phone at 301-837-1799, or by email at request.schedule@nara.gov.

SUPPLEMENTARY INFORMATION: NARA publishes notice in the Federal Register for records schedules they no longer need to conduct agency business. NARA invites public comments on such records schedules, as required by 44 U.S.C. 3303a(a).

Each year, Federal agencies create billions of records on paper, film, magnetic tape, and other media. To control this accumulation, agency records managers prepare schedules proposing records retention periods and submit these schedules for NARA's approval. These schedules provide for timely transfer into the National Archives of historically valuable records and authorize the agency to dispose of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless otherwise specified. An item in a schedule is media neutral when an agency may apply the disposition instructions to records regardless of the medium in which it creates or maintains the records. Items included in schedules submitted to NARA on or after December 17, 2007, are media neutral unless the item is expressly limited to a specific medium. (See 36 CFR 1225.12(e).)

Agencies may not destroy Federal records without Archivist of the United States' approval. The Archivist approves destruction only after thoroughly considering the records' administrative use by the agency of origin, the rights of the Government and of private people directly affected by the Government's activities, and whether or not the records have historical or other value.

In addition to identifying the Federal agencies and any subdivisions requesting disposition authority, this notice lists the organizational unit(s) accumulating the records (or notes that the schedule has agency-wide applicability when schedules cover records that may be accumulated throughout an agency); provides the control number assigned to each schedule, the total number of schedule items, and the number of temporary items (the records proposed for destruction); and includes a brief description of the temporary records. The records schedule itself contains a full description of the records at the file unit level as well as their disposition. If NARA staff has prepared an appraisal memorandum for the schedule, it also includes information about the records. You may request additional information about the disposition process at the addresses above.

Schedules Pending

1. Department of Defense, National Security Agency (DAA-0457-2017-0003, 3 items, 2 temporary items). Records of the Office of Strategic Plans and Policy, including routine pre-publication review files for resumes and non-mission related information. Proposed for permanent retention are pre-publication review files for mission related materials or those defined as high-profile by established criteria.

2. Department of Labor, Office of Administrative Law Judges (DAA-0174-2018-0001, 4 items, 4 temporary items). Records related to the Alternative Dispute Resolution program including general program files, case records, and working files.

3. Department of State, Bureau of International Narcotics and Law Enforcement (DAA-0059-2015-0010, 11 items, 8 temporary items). Bureau-wide schedule including project files, working files, and copies of audit files. Proposed for permanent retention are records of the Bureau's senior leadership, program files, and high-profile project files

4. Department of the Treasury, Internal Revenue Service (DAA-0058-2018-0009, 2 items, 2 temporary items). Case files of taxpayer disputes related to double taxation and future tax transactions based on operational provisions outlined in tax treaties.

5. National Archives and Records Administration, Government-wide (DAA-GRS-2018-0002, 15 items, 15 temporary items). Revised General Records Schedule for employee relations records such as reasonable accommodation, alternative dispute resolution, administrative grievance, disciplinary action, adverse action, and harassment complaint case files; records of telework/alternative worksite, Equal Employment Opportunity, and displaced employee programs; labor management relations records; and agency records of cases settled through the Merit Systems Protection Board and Federal Labor Relations Authority.

Laurence Brewer,
Chief Records Officer for the U.S. Government.

[FR Doc. 2018-21996 Filed 10-9-18; 8:45 am]

BILLING CODE 7515-01-P